SECURITIES AND EXCHANGE COMMISSION

[Release No. 34-101477; File No. SR-NYSE-2024-58]

Self-Regulatory Organizations; New York Stock Exchange LLC; Order Approving a Proposed Rule Change To Amend NYSE Rule 7.13

October 30, 2024

I. Introduction

On September 12, 2024, New York Stock Exchange LLC (“NYSE” or the “Exchange”) filed with the Securities and Exchange Commission (“Commission”), pursuant to Section 19(b)(1) of the Securities Exchange Act of 1934 (“Act”) ¹ and Rule 19b-4 thereunder,² a proposed rule change to amend NYSE Rule 7.13 to remove references to the Chair of the Board of Directors of the Exchange (“Board”). The proposed rule change was published in the Federal Register on September 30, 2024.³ The Commission received no comments on the proposal. This order approves the proposed rule change.

¹ 15 U.S.C. 78s(b)(1).

² 17 CFR 240.19b-4.

³ See Securities Exchange Act Release No. 101150 (September 24, 2024), 89 FR 79664.

II. Description of the Proposal

The Exchange has proposed amending NYSE Rule 7.13 (Trading Suspensions) to remove references to the Chair of the Board. Under current NYSE Rule 7.13, the Chair or the chief executive officer of the Exchange (“CEO”), or the officer designee of the Chair or the CEO, has the power to suspend trading on any and all securities trading on the Exchange whenever in his or her opinion such suspension would be in the public interest. No such action would continue longer than two days or as soon thereafter as a quorum of Directors can be assembled, unless the Board approves the continuation of such suspension. According to the Exchange, the Chair has not acted under NYSE Rule 7.13 since the rule was adopted.⁴

⁴ Id. at 79665.

Pursuant to the proposed rule change, the CEO or the officer designee of the CEO would continue to have the power to suspend trading in any and all securities trading on the Exchange whenever in his or her opinion such suspension would be in the public interest. Further, the requirement that no such action continue longer than two days or as soon thereafter as a quorum of Directors can be assembled, unless the Board approves the continuation of such suspension, would remain.

III. Discussion and Commission Findings

After careful review, the Commission finds that the proposed rule change is consistent with the requirements of the Act and the rules and regulations thereunder applicable to a national securities exchange.⁵ In particular, the Commission finds that the proposed rule change is consistent with Section 6(b) of the Act,⁶ in general, and furthers the objectives of Section 6(b)(5) of the Act,⁷ which requires, among other things, that the rules of a national securities exchange be designed to prevent fraudulent and manipulative acts and practices, to promote just and equitable principles of trade, to foster cooperation and coordination with persons engaged in regulating, clearing, settling, processing information with respect to, and facilitating transactions in securities, to remove impediments to and perfect the mechanism of a free and open market and a national market system, and, in general, to protect investors and the public interest.

⁵ In approving this proposed rule change, the Commission notes that it has considered the proposed rule's impact on efficiency, competition, and capital formation. See 15 U.S.C. 78c(f).

⁶ 15 U.S.C. 78f(b).

⁷ 15 U.S.C. 78f(b)(5).

The Commission finds that the proposed rule change is consistent with the Act in that it removes references to the Chair, who is currently not required to act under NYSE Rule 7.13, while still preserving the ability of the CEO or his or her officer designee the authority to act under the rule when it would be in the public interest. As noted above, the Chair has not acted under NYSE Rule 7.13 since the rule was adopted and therefore, the proposed rule change more accurately reflects Exchange practice. Moreover, the Commission notes that the Chair and the Board would continue to have an oversight role, since the requirement would remain that no suspension of trading continue longer than two days, or as soon thereafter as a quorum of Directors can be assembled, unless the Board approves the continuation of such suspension.

Based on the foregoing, the Commission finds that the proposed rule change is consistent with the Act.

IV. Conclusion

It is therefore ordered, pursuant to Section 19(b)(2) of the Act,⁸ that the proposed rule change (SR-NYSE-2024-58) be, and hereby is, approved.

⁸ 15 U.S.C. 78s(b)(2).

For the Commission, by the Division of Trading and Markets, pursuant to delegated authority.⁹
⁹ 17 CFR 200.30-3(a)(12).
Sherry R. Haywood,
Assistant Secretary.

[FR Doc. 2024-25634 Filed 11-4-24; 8:45 am]

BILLING CODE 8011-01-P